DEPARTMENT OF AGRICULTURE

Food and Nutrition Service

Agency Information Collection Activities: Proposed Collection; Comment Request: Supplemental Nutrition Assistance Program Waivers Under Section 6(o) of the Food and Nutrition Act

AGENCY: Food and Nutrition Service, USDA.

ACTION: Notice.

SUMMARY: In accordance with the Paperwork Reduction Act of 1995, this notice invites the general public and other public agencies to comment on the proposed information collection. This is a revision of a currently approved collection. The purpose of Section 6(o) of the Food and Nutrition Act is to establish a time limit for the receipt of benefits under the Supplemental Nutrition Assistance Program (SNAP) for certain able-bodied adults who are not working. The provision authorizes the Secretary of Agriculture, upon a State agency's request, to waive the provision for any group of individuals if the Secretary determines “that the area in which the individuals reside has an unemployment rate of over 10 percent, or does not have a sufficient number of jobs to provide employment for the individuals.” As required in the statute, in order to receive a waiver the State agency must submit sufficient supporting information so that the United States Department of Agriculture (USDA) can make the required determination as to the area's unemployment rate or sufficiency of available jobs. This collection of information is, therefore, necessary in order to obtain waivers of the SNAP time limit.

DATES: Written comments must be received on or before December 1, 2014.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including use of appropriate, automated, electronic, mechanical, or other technological collection techniques or other forms of information technology.

Comments may be sent to Sasha Gersten-Paal, Branch Chief, Certification Policy Branch, Program Development Division, Food and Nutrition Service, U.S. Department of Agriculture, 3101 Park Center Drive, Room 812, Alexandria, VA 22302. Comments may also be submitted via fax to the attention of Sasha Gersten-Paal at 703-305-2507 or via email to Sasha.Gersten-Paal@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Sasha Gersten-Paal at (703) 305-2507.

SUPPLEMENTARY INFORMATION: Title: Supplemental Nutrition Assistance Program Waivers of Section 6(o) of the Food and Nutrition Act.

OMB Number: 0584-0479.

Expiration Date: January 31, 2015.

Type of Request: Revision of a currently approved collection.

Abstract: Section 824 of the Personal Responsibility and Work Opportunity Reconciliation Act of 1996 (PRWORA), Public Law 104-193, 110 Stat. 2323 amended Section 6(o) of the Food Stamp Act of 1977 (7 U.S.C. 2015(o)) to establish a time limit for the receipt of food stamp benefits for certain able-bodied adults without dependents (ABAWDs) who are not working at least 20 hours per week. This time limit applies only to adults between 18 and 50 years of age that do not have children or adult dependents in their SNAP household. ABAWD recipient eligibility is limited to three months within a 36 month period, unless the individual is working, or participating in a designated employment and training activity, for 20 hours per week. (Note: Pursuant to the Food, Conservation, and Energy Act of 2008 (Pub. L. 110-234, 122 Stat. 923, enacted May 22, 2008), the Food Stamp Act was renamed the Food and Nutrition Act of 2008 and the Food Stamp Program was renamed the Supplemental Nutrition Assistance Program [SNAP].)

The provision authorizes that upon the request of a State agency, the Secretary of Agriculture may waive this provision for any group of individuals if the Secretary determines “that the area in which the individuals reside has an unemployment rate of over 10 percent or does not have a sufficient number of jobs to provide employment for the individuals.” As required in the statute, in order to receive a waiver, the State agency must submit sufficient supporting information so that the Secretary can make the required determination as to the area's unemployment rate or insufficiency of available jobs. This collection of information is necessary in order to obtain waivers of the SNAP ABAWD time limit.

Based on the experience of the Food and Nutrition Service (FNS) during calendar year 2014, FNS projects that on an annual basis 43 State agencies will submit requests for waivers of the time limit for ABAWD recipients based on a high unemployment rate or an insufficient number of jobs. Using unemployment projections from the Congressional Budget Office (CBO) through 2024, FNS believes that labor market conditions in 2014 would be more representative of the U.S. labor market over the next three years than would the preceding three years.

A typical State waiver request includes several geographic areas and each geographic area may include multiple cities or counties. FNS projects that of the 43 requests each year, 33 will be based on labor market data, 8 will be based on a Labor Surplus Area (LSA) designation by the Department of Labor (DOL) and 2 will be based on a DOL extended unemployment benefit trigger notice. FNS estimates a response time of 35 hours for each waiver request based on labor market data, which require detailed analysis of labor markets within the State. FNS estimates a burden of 4 hours per respondent for waivers based on an LSA designation or a DOL trigger notice, as the data required to support these waivers is readily available from the DOL Web site and requires minimal preparation by State agencies. FNS projects a total burden of 1,195 hours.

Affected Public: State Agencies.

Estimated Number of Respondents: 43.

Estimated Number of Responses per Respondent: 1.

Estimated Total Annual Responses: 43.

Estimate Time per Response: Varies between 4 to 35 Hours.

Estimated Total Annual Burden: 1,195.

There is no recordkeeping requirement directly associated with this information collection.

OMB #0584-0479 | Requirement | Estimated number of respondents | Responses annually per respondent | Total annual responses | Hours per response | Annual burden hours
State Agencies
Affected Public: | Reporting Burden | Submission of waiver request based on labor market data | 33 | 1 | 33 | 35 | 1,155
| Submission of waiver request based on Labor Surplus Area designation | 8 | 1 | 8 | 4 | 32
| Submission of waiver request based on DOL trigger notice | 2 | 1 | 2 | 4 | 8
Reporting Totals |  | 48 |  |  |  | 1,195

Dated: September 24, 2014.
Jeffrey J. Tribiano,
Acting Administrator, Food and Nutrition Service.

[FR Doc. 2014-23176 Filed 9-29-14; 8:45 am]

BILLING CODE 3410-30-P